CORPORATION FOR NATIONAL AND COMMUNITY SERVICE

Announcement Concerning Corporation Program Resources and Homeland Security

AGENCY: Corporation for National and Community Service.

ACTION: Announcement concerning Corporation program resources and homeland security.

SUMMARY: The Corporation for National and Community Service (hereinafter the “Corporation”) announces that organizations which currently receive program grant funds or any type of Federal program assistance from the Corporation and use service and volunteering as a strategy to meet community needs may redirect program activities to support homeland security. The Corporation defines homeland security to include programs supporting public safety, public health, and disaster preparedness and relief.

FOR FURTHER INFORMATION CONTACT: For further information, contact Nancy Talbot at 202-606-5000 ext. 470 (ntalbot@cns.gov).

SUPPLEMENTARY INFORMATION:

Background

In the State of the Union address, the President announced the USA Freedom Corps that will build on the great American ethic of service. The USA Freedom Corps will promote a culture of responsibility, service, and citizenship. It will work with key service agencies in government and the nonprofit sector to provide incentives and new opportunities to serve at home and abroad. The USA Freedom Corps will draw on help from Americans of all ages and of every background. The Corporation and its programs—National Senior Service Corps, AmeriCorps, and Learn and Serve America—are part of the efforts under the USA Freedom Corps.

The Corporation's support for homeland security includes:

Public Safety

Public safety is one of the four primary service activities for AmeriCorps, Senior Corps, and Learn and Serve America. Thousands of volunteers serve with and for police departments, fire departments, rescue teams, emergency response agencies, and land management agencies. They are not armed, nor can they make arrests, but they carry out vital tasks including organizing neighborhood watch groups, community policing, victim assistance, fingerprinting and other tasks that free officers and other professionals to do front line work. In its first five years, AmeriCorps has organized 46,000 safety patrols, and in one year alone senior volunteers carried out 131,000 patrols that freed up 540,000 hours of police time.

Public Health

Currently, AmeriCorps members, Learn and Serve America participants, and Senior Corps volunteers fulfill a variety of public health roles including assisting in immunizing children and adults, serving as case managers, distributing health information, and providing health screenings. Last year alone, AmeriCorps members distributed health information materials to 500,000 people and provided health screenings to 181,000 individuals, while Senior Corps volunteers assisted in immunizing 270,000 children and adults. Learn and Serve America students, faculty, and teachers developed education materials on a broad range of health topics, served in clinics, and provided needed medical care in underserved areas.

Disaster Preparedness and Relief

AmeriCorps members, including the National Civilian Community Corps, and Senior Corps volunteers have a long track record of working with FEMA and other relief agencies in helping communities to respond to disasters. Learn and Serve America participants respond to local disasters as well. National and community service participants help run emergency shelters, assist law enforcement, provide food and shelter, manage donations, assess and repair damage, and help families and communities rebuild. Since September 11, many have been actively engaged in relief efforts.

Corporation Announcement Concerning Existing Volunteer and Service Programs

The Corporation announces that organizations that currently receive program grant funds or any type of federal program assistance from the Corporation and use service and volunteering as a strategy to meet community needs are encouraged, where appropriate, to direct activities to support homeland security in the three areas described above—public safety, public health, and disaster preparedness and relief. This notice applies to all Corporation grantees, including state commissions on national and community service, nonprofit organizations, state education agencies, institutions of higher education, and state and local governments.

In general, organizations receiving Corporation program grants or federal program assistance have considerable flexibility to focus activities on meeting community needs. The Corporation encourages all organizations to consider directing resources toward the needs associated with homeland security. Please address any specific questions concerning the flexibility to redirect any available resources to your appropriate program officer at the Corporation. Any material change in activity that will prevent your organization from accomplishing the objectives for which the grant was issued requires that you notify the Corporation in writing and that the Corporation provides you written approval. Similarly, changes in applicable budget categories, as specified in the grant provisions, requires written approval. To ensure that you are aware of any specific requirements concerning the redirection of Corporation resources or activities, we advise you to inform your appropriate program officer of your proposed changes.

Dated: March 4, 2002.
Gary Kowalczyk,
Coordinator, National Service Programs.

[FR Doc. 02-5521 Filed 3-7-02; 8:45 am]

BILLING CODE 6050-$$-P